FEDERAL MARITIME COMMISSION

[Ocean Transportation Intermediary License No. 15099N]

World Line Shipping, Inc.; Order of Revocation

Section 19(b) of the Shipping Act of 1984, as amended, provides that the Federal Maritime Commission (“Commission”) may revoke any Ocean Transportation Intermediary (“OTI”) license for failure of a licensee to maintain valid proof of financial responsibility on file with the Commission. The Commission's implementing regulations, 46 C.F.R. § 515.16(a), provide for such revocation effective as of the termination date of the proof of financial responsibility, unless the licensee shall have submitted a valid replacement before such termination date.

The surety bond issued in favor of World Line Shipping, Inc., 20003 Rancho Way, Rancho Dominguez, CA 90220 was cancelled effective October 21, 1999. On September 22, 1999, the licensee was advised that it is prohibited from providing transportation by water as an NVOCC in the foreign commerce of the United States unless the Commission received a valid replacement proof of financial responsibility with an effective date on or before October 21, 1999. The licensee has failed to provide such a replacement.

Therefore, By virtue of the authority vested in me by the Commission as set forth in 46 C.F.R. § 501.27(g) (1998);

Notice is hereby given, That the provisional OTI license issued to World Line Shipping, Inc. is hereby revoked effective October 21, 1999.

It is further ordered, That a notice of this action be published in the Federal Register and a copy of this Order be served upon World Line Shipping, Inc.

Austin L. Schmitt,
Director, Bureau of Tariffs, Certification and Licensing.

[FR Doc. 00-1395 Filed 1-19-00; 8:45 am]

BILLING CODE 6730-01-M